DEPARTMENT OF HEALTH AND HUMAN SERVICES

Administration for Children and Families

[OMB #0970-0462]

Proposed Information Collection Activity; National and Tribal Evaluation of the 2nd Generation of the Health Profession Opportunity Grants

AGENCY: Office of Planning, Research, and Evaluation, Administration for Children and Families, HHS.

ACTION: Request for public comment.

SUMMARY: The Health Profession Opportunity Grants (HPOG) Program provides healthcare occupational training for Temporary Assistance for Needy Families recipients and other low-income people. The Office of Management and Budget (OMB) has approved various data collection activities for the National and Tribal Evaluation of the 2nd Generation of HPOG (HPOG 2.0 National and Tribal Evaluation) under OMB #0970-0462. Due to the profound effects the COVID-19 pandemic has had on the U.S. economy, on families nationwide and on HPOG 2.0 programs, the Office of Planning, Research, and Evaluation (OPRE) is considering surveying study participants who applied to the HPOG Program after the onset of the pandemic. This notice provides a summary for public review and comment of the use and burden associated with a new information collection for this “COVID Cohort” Survey.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The COVID-19 pandemic has had profound effects on the U.S. economy, on the healthcare sector and on individuals and families across the country. The pandemic has also had broad implications for HPOG 2.0 programs—on how and how much healthcare training is delivered, on demand for healthcare workers, on interest in working in health care, and on the labor market more broadly. OPRE seeks to understand the particular experiences of those who apply for the HPOG Program during this period by surveying study participants enrolled after the onset of the pandemic. The COVID Cohort Survey would collect important information on participant experiences 15 months after randomization and would allow the impact study to compare impacts for pre-COVID participants with impacts for those enrolled after the onset the pandemic.

Respondents: HPOG impact study participants from the 27 non-tribal HPOG 2.0 grantees (treatment and control group members who enroll between May 2020 and September 2021).

Annual Burden Estimates

This request is specific to the COVID Cohort Survey. Currently approved materials and associated burden can be found at: https://www.reginfo.gov/public/do/PRAICList?ref_nbr=201904-0970-006.

Instrument | Number of respondents (total over request period) | Number of responses per respondent (total over request period) | Average burden per response (in hours) | Total burden (in hours) | Annual burden (in hours)
Instrument 21: COVID-19 Cohort Survey | 5,120 | 1 | 1 | 5,120 | 1,707

Estimated Total Annual Burden Hours: 1,707.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 2008 of the Social Security Act as enacted by Section 5507 of the Affordable Care Act and Section 413 of the Social Security Act, 42 U.S.C. 613.

Mary B. Jones,
ACF/OPRE Certifying Officer.

[FR Doc. 2020-28246 Filed 12-21-20; 8:45 am]

BILLING CODE 4184-72-P